DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of February 1, 2021 through February 28, 2021. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated;

AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path

(i) the sales or production, or both, of such firm, have decreased absolutely;

AND (ii and iii below)

(ii) (I) imports of articles or services like or directly competitive with articles produced or services supplied by such firm have increased; OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased;

AND

(iii) the increase in imports described in clause (ii) contributed importantly to such workers' separation or threat of separation and to the decline in the sales or production of such firm; OR

(B) Shift in Production or Services to a Foreign Country Path OR Acquisition of Articles or Services From a Foreign Country Path

(i) (I) there has been a shift by such workers' firm to a foreign country in the production of articles or the supply of services like or directly competitive with articles which are produced or services which are supplied by such firm; OR

(II) such workers' firm has acquired from a foreign country articles or services that are like or directly competitive with articles which are produced or services which are supplied by such firm;

AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) A significant number or proportion of the workers in the workers' firm or an appropriate subdivision of the firm have become totally or partially separated, or are threatened to become totally or partially separated;

AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4));

AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e)) must be met, by following criteria (1), (2), and (3) as follows:

(1) The workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1) of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A));

AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C)of paragraph (1) is published in the Federal Register;

AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
94,651 | Kerry Inc., Kentwood division, Kelly Services | Kentwood, MI | March 21, 2018.
94,953 | Precision Wood Manufacturing | Bay City, OR | June 27, 2018.
95,431 | Reyco Granning LLC, Onin Staffing, Scott Regional Technology Center | Mt. Vernon, MO | November 26, 2018.
95,489 | Logansport Machine Company, Inc | Logansport, IN | December 17, 2018.
95,573 | USM Acquisition, LLC, Clio Intermediate, LLC | Remus, MI | January 16, 2019.
95,775 | Ridewell Corporation, Focus Workforce Management, Penmac Staffing | Springfield, MO | March 4, 2019.
95,833 | Formtek Maine, Mestek, Inc | Clinton, ME | March 20, 2019.
95,886 | Collins Hardwood Company, LLC, Richwood Sawmill, Collins Pine Company | Richwood, WV | April 10, 2019.
95,915 | Borbet Alabama Inc | Auburn, AL | May 6, 2019.
95,924 | United States Steel Corporation, Granite City Works division | Granite City, IL | May 14, 2019.
95,965 | U.S. Steel Seamless Tubular Operations, LLC, United States Steel Corporation | Lorain, OH | June 22, 2019.
96,008 | NCI Group, Inc., Metal Coaters Division, Cornerstone Buildings Brands, Inc | Ambridge, PA | April 22, 2019.
96,137 | Jones & Vining, Inc | Walnut Ridge, AR | August 12, 2019.
96,182 | GE Transportation, A WABTEC Company | Erie, PA | September 29, 2020.
96,192 | Multi-Color Corporation (MCC), Manpower, Kelly Services, Wisconsin Label Corporation, WS Packaging | Franklin, PA | September 14, 2019.
96,504 | Howell Metal Company, Copper Tube Division | New Market, VA | September 30, 2019.
96,522 | Renaissance Manufacturing Group- Waukesha, LLC | Waukesha, WI | October 2, 2019.
96,650 | Pacific Cast Technologies, a CPP Company, Consolidated Precision Products | Albany, OR | December 22, 2019.
96,657 | Hampden Papers, Inc | Holyoke, MA | December 29, 2019.
96,660 | Precision Aluminum Inc | Wadsworth, OH | December 31, 2019.
96,680 | JW Aluminum Company | Williamsport, PA | January 25, 2020.

The following certifications have been issued. The requirements of Section 222(a)(2)(B) (Shift in Production or Services to a Foreign Country Path or Acquisition of Articles or Services from a Foreign Country Path) of the Trade Act have been met.

TA-W No. | Subject firm | Location | Impact date
94,899 | Les Lunes | Healdsburg, CA | June 11, 2018.
94,952 | PepsiCo, Frito Lay North America, Corporate Headquarters, Open Systems, etc | Plano, TX | June 27, 2018.
94,952A | PepsiCo, Corporate Headquarters, Open Systems, Pioneer Data Systems, Preemp, etc | Plano, TX | June 27, 2018.
94,952B | PepsiCo, Corporate Headquarters, Information Technology, etc | Purchase, NY | June 27, 2018.
95,152 | DeVry University, Inc., DeVry Central Group, Cogswell Education, Cloud9, Advanced Resources, etc | Naperville, IL | September 3, 2018.
95,392 | Aon Coporation, Aon, 24 Seven, Accenture, Allied Universal, Ambient Consulting, etc | Lincolnshire, IL | November 19, 2018.
95,486 | Hubbell Lighting, Inc., Employers Services of America, Inc | El Dorado, AR | December 16, 2018.
95,490 | Lonza Walkersville Inc., Aerotek, Piper Companies | Walkersville, MD | December 17, 2018.
95,588 | CalAmp Wireless Networks Corporation, Select Temporaries | Oxnard, CA | January 22, 2019.
95,597 | LSC Communications US, LLC, Accion Performance, Accountemps, Accounting Principals, etc | Mattoon, IL | January 23, 2019.
95,614 | LSC Communications Printing Company, Lifestyles Staffing | Strasburg, VA | January 24, 2019.
95,717 | HCL America, Inc., Engineering, R&D Services, Digital Process Operations | Providence, RI | February 20, 2019.
95,717A | HCL America, Inc., Engineering, R&D Services, Digital Process Operations | Sunnyvale, CA | February 20, 2019.
95,717B | HCL America, Inc., Engineering, R&D Services, Digital Process Operations | Appleton, WI | February 20, 2019.
95,767 | Lufkin Industries LLC, Oilfield-Buck Creek division, Baker Hughes, Quinn Pumps | Lufkin, TX | April 13, 2020.
95,778 | RTR Industries, LLC | Anaheim, CA | March 5, 2019.
95,793 | RealWear, Inc | Vancouver, WA | March 3, 2019.
95,832 | F5 Networks, Inc., Systems Engineering Team | Liberty Lake, WA | March 17, 2019.
95,859 | Olympus Corporation of the Americas, IT Infrastructure Organization, Agile1 | Center Valley, PA | March 31, 2019.
95,859A | Olympus Surgical Technologies America, IT Infrastructure Organization, Agile1 | Bartlett, TN | March 31, 2019.
95,859B | National Service Center East, IT Infrastructure Organization, Agile1 | Bartlett, TN | March 31, 2019.
95,859C | Olympus Surgical Technologies America, IT Infrastructure Organization, Agile1 | Brooklyn Park, MN | March 31, 2019.
95,859D | Olympus Surgical Technologies America, IT Infrastructure Organization, Agile1 | Kennewick, WA | March 31, 2019.
95,859E | Olympus Surgical Technologies America & Olympus Latin America, IT Infrastructure Organization, Agile1 | Miami, FL | March 31, 2019.
95,859F | Olympus Surgical Technologies America, IT Infrastructure Organization, Agile1 | San Jose, CA | March 31, 2019.
95,859G | Olympus Surgical Technologies America, IT Infrastructure Organization, Agile1 | Norwalk, OH | March 31, 2019.
95,859H | Olympus Respiratory America, IT Infrastructure Organization, Agile1 | Redmond, WA | March 31, 2019.
95,859I | Olympus Surgical Technologies America & Olympus America Inc., IT Infrastructure Organization, Agile1 | Southborough, MA | March 31, 2019.
95,859J | Olympus Scientific Solutions Americas & Olympus America Inc., Scientific Solutions Group, IT Infrastructure Organization, Agile1 | Waltham, MA | March 31, 2019.
95,908 | Zurn Industries, LLC, Rexnord-Zurn Holdings, Inc., Rexnord LLC, 1801 Pittsburgh Avenue | Erie, PA | May 4, 2020.
95,908A | Zurn Industries, LLC, Rexnord-Zurn Holdings, Inc., Rexnord LLC, 1302 Raspberry Street | Erie, PA | May 4, 2020.
95,919 | The Doe Run Resources Corporation, Doe Run Company, Herculaneum Smelting, JV Contracting, BRI, EOI, SMCI, etc | Herculaneum, MO | May 13, 2019.
95,961 | Allscripts Healthcare, LLC, Enterprise Information Systems/Paragon EHR, Allscripts, Tapfin, etc | Broomfield, CO | May 4, 2019.
95,963 | Donaldson Company Inc., Humera-Human Resources Recruiter, Diversified Service Network | Frankfort, IN | June 4, 2019.
95,997 | Panther Creek Mining, LLC, Blackhawk Mining, LLC | Dawes, WV | June 17, 2019.
96,039 | ITT, Inc., Connect & Control Technologies, BIW-Connector Systems Division, Machinists | Santa Rosa, CA | July 6, 2019.
96,090 | NortonLifeLock, Inc., Symantec Corporation, PRO Unlimited, Inc | Springfield, OR | July 23, 2019.
96,093 | Autoneum North America, Inc., Aerotek Staffing and Recruiting | Jeffersonville, IN | July 27, 2019.
96,121 | Hewlett Packard Enterprise, AZURE Stack Engineering Team | Fort Collins, CO | August 4, 2019.
96,121A | Hewlett Packard Enterprise, AZURE Stack Engineering Team | Redmond, WA | August 4, 2019.
96,127 | Levi Strauss & Co., Financial Shared Services Center, Randstadt Sourceright, Staffmark, etc | Eugene, OR | August 6, 2019.
96,161 | TE Connectivity, Kelly Services, Aerotek | Middletown, PA | October 6, 2020.
96,306 | Itron Inc., Corporate Office | Liberty Lake, WA | September 18, 2019.
96,525 | Domtar Paper Company, LLC, Kingsport Mill | Kingsport, TN | October 2, 2019.
96,547 | A.M. Castle & Co., Wichita Branch | Wichita, KS | October 9, 2019.
96,557 | Climax Molybdenum Company | Leadville, CO | October 14, 2019.
96,566 | Asco Power Technologies | Independence, OH | October 20, 2019.
96,568 | Cascades Tissue Group Pennsylvania Inc | Pittston, PA | October 20, 2019.
96,568A | Cascades Tissue Group Pennsylvania Inc | Ransom, PA | October 20, 2019.
96,627 | Follett Corporation | Westchester, IL | November 20, 2019.
96,643 | DUS Operating Inc. dba Dura Automotive Systems | Moberly, MO | December 11, 2019.
96,644 | Rockwell Collins, Inc., Operations/Avionics | Decorah, IA | December 14, 2019.
96,649 | Spectrum Brands Pet Group, Inc., Global Pet Care Division | Blacksburg, VA | December 17, 2019.
96,658 | Hub City, Inc | Aberdeen, SD | December 28, 2019.
96,659 | Halliburton Energy Services, Inc., Human Resources Employee Services Center | Duncan, OK | December 30, 2019.
96,666 | TPL Transition Services (F.K.A. Globe Fire Sprinkler Corp.) | Standish, MI | January 8, 2020.
96,670 | Industrial C&S of P.R. LLC, Vieques Manufacturing Plant | Vieques, | January 12, 2020.
96,672 | Ormco Corporation, Spark | Pomona, CA | January 14, 2020.
96,674 | Star Forge LLC (dba Jorgensen Forge) | Tukwila, WA | January 5, 2021.
96,678 | Medtronic/Minimed Distributing | San Antonio, TX | January 15, 2020.
96,679 | Rexnord Industries, LLC | Grafton, WI | January 25, 2020.
96,682 | AES Corporation | Peabody, MA | January 25, 2020.
96,684 | Dayco Products, LLC | Williston, SC | January 26, 2020.
96,685 | Cartus Corporation, U.S Moving Services, File Set Up and International Compensation | Danbury, CT | January 27, 2020.
96,687 | Transform SR LLC, Home Services | Round Rock, TX | January 27, 2020.
96,689 | Transform SR LLC, Home Services | San Antonio, TX | January 27, 2020.
96,693 | Mylan Pharmaceuticals Inc | Morgantown, WV | June 21, 2020.
96,698 | Gannett, Inc., designIQ—Ad Operations | Des Moines, IA | February 1, 2020.
96,700 | Victoria's Secret Stores Brand Management, LLC, Prototype Room | New York, NY | February 1, 2020.
96,701 | Joy Global Underground Mining LLC, a wholly owned subsidiary of Komatsu Mining Corp | Bluefield, VA | February 1, 2020.
96,702 | TESCOM, a wholly owned subsidiary of Emerson Electric Co | Elk River, MN | February 2, 2020.
96,703 | HCL America | Tigard, OR | February 2, 2020.
96,704 | Houston Foam Plastics Inc | El Paso, TX | February 2, 2020.
96,705 | NCR, Bentonville | Rogers, AR | February 3, 2020.
96,709 | Concentrix CVG Customer Management Group Inc | Pueblo, CO | February 5, 2020.
96,712 | Mitsubishi Heavy Industries Climate Control, Inc | Franklin, IN | August 17, 2021.
96,714 | TE Connectivity | Campbell, CA | February 8, 2020.
96,715 | TE Connectivity | San Jose, CA | February 8, 2020.
96,718 | Medtronic Plc, Operations | Haltom City, TX | February 9, 2020.
96,719 | Eaton Corporation, Fluid and Electrical Distribution Division | Eastanollee, GA | February 9, 2020.
96,724 | Key Automotive of Florida, LLC d/b/a Joyson Safety Systems | Lakeland, FL | February 11, 2020.
96,725 | Siemens Energy, Inc | Houston, TX | February 11, 2020.
96,727 | Glenmoor Company, a division of ILSCO LLC ILSCO LLC | Harrison, OH | February 16, 2020.

The following certifications have been issued. The requirements of Section 222(b) (supplier to a firm whose workers are certified eligible to apply for TAA) of the Trade Act have been met.

TA-W No. | Subject firm | Location | Impact date
94,870 | Timken Belts SMO LLC, Timken, Penmac | Springfield, MO | June 3, 2018.
95,174 | Jacobson Warehouse Company, Inc., XPO Logistics Inc | Montgomery, IL | September 10, 2018.
95,248 | L&P Materials Manufacturing, Inc | Jacksonville, FL | October 2, 2018.
95,401 | GKN Sinter Metals, Spherion, Manpower | Emporium, PA | November 20, 2018.
95,931 | Royal Engineered Composites, Inc | Minden, NE | May 21, 2019.
96,138 | Mosey Manufacturing Co. Inc., Plant 2 | Richmond, IN | August 12, 2019.
96,301 | Advanced Welding Technologies | Erie, PA | September 22, 2019.
96,303 | WABTEC (GE Transportation Grove City), Locomotive, Westinghouse Airbrake, WABTEC US Rail, 1503 W. Main | Grove City, PA | June 16, 2020.
96,303A | WABTEC (GE Transportation Grove City), Locomotive, Westinghouse Airbrake, WABTEC US Rail, 660 Barkeyville Road | Grove City, PA | June 16, 2020.

The following certifications have been issued. The requirements of Section 222(e) (firms identified by the International Trade Commission) of the Trade Act have been met.

TA-W No. | Subject firm | Location | Impact date
96,524 | American Woodmark, Allegany Manufacturing Plant | Cumberland, MD | April 17, 2019.
96,540 | Vestas Towers America Inc., a subsidiary of Vestas Wind Systems A/S | Pueblo, CO | August 25, 2019.
96,668 | Bonney Forge Texas, L.P/WFI International | Houston, TX | December 2, 2019.

Negative Determinations for Worker Adjustment Assistance

In the following cases, the investigation revealed that the eligibility criteria for TAA have not been met for the reasons specified.

The investigation revealed that the criteria under paragraphs (a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
94,952C | PepsiCo, Frito Lay North America, Technology Process Center, Open Systems, etc | Dallas, TX
95,036 | Can Clay Corp., Action Contractual & Staffing | Cannelton, IN
95,142 | TL Clothing, Inc | Los Angeles, CA
95,218 | Whitesell Packing, Onin Staffing, Snelling Staffing | Muscle Shoals, AL
95,388 | Goodwin Brothers Printing Company | St. Louis, MO
95,406 | Hikvision USA Inc., Hangzhou Hikvision Digital Technology Co., Ltd | City of Industry, CA
95,443 | Western Panel Manufacturing Inc | Eugene, OR
95,467 | Wisconsin Central Ltd., Canadian National Railway Company | Proctor, MN
95,467A | Wisconsin Central Ltd., Canadian National Railway Company | Homewood, IL
95,571 | Pierce Pacific, Pierce Denharco, Long Reach Division | Portland, OR
95,698 | Wittrock Enterprises LLC | Greensburg, IN
95,754 | United States Steel Corporation, Great Lakes Works (Dearborn EGL) Division | Dearborn, MI
95,758 | Southern Graphic Systems, LLC | Pittsburgh, PA
95,797 | Concentrix CVG Customer Management Group, Inc., Concentrix CVG Corporation | Laredo, TX
95,830 | Wayzata Home Products | Edina, MN
95,831 | Basic Energy Services | San Angelo, TX
95,873 | Palmer of Texas Tanks, Inc., Synalloy Corporation, J&M Manufacturing | Andrews, TX
95,899 | Art Van Furniture, LLC | Working in Multiple Cities Throughout Michigan, MI
95,899A | Art Van Furniture, LLC | Working in Multiple Cities Throughout Missouri, MO
95,899B | Art Van Furniture, LLC | O'Fallon, IL
95,899C | Pure Sleep Franchising, LLC, Art Van Furniture, LLC | Working in Multiple Cities Throughout Michigan, MI
95,899D | Pure Sleep Franchising, LLC, Art Van Furniture, LLC | Working in Multiple Cities Throughout Illinois, IL
95,899E | Pure Sleep Franchising, LLC, Art Van Furniture, LLC | Working in Multiple Cities Throughout Ohio, OH
95,899F | Scott Shuptrine Interiors, Art Van Furniture, LLC | Working in Multiple Cities Throughout Michigan, MI
95,899G | Wolf Furniture, Art Van Furniture, LLC | Working in Multiple Cities Throughout Maryland, MD
95,899H | Wolf Furniture, Art Van Furniture, LLC | Leesburg, VA
95,899I | Levin Furniture, Art Van Furniture, LLC | Working in Multiple Cities Throughout Ohio, OH
95,916 | Integrated Global Services, Inc., Tradesman International | Richmond, VA
95,982 | Gannett Publishing Services, LLC, Gannett Satellite Information Network, Forge Industrial Staffing, etc | Indianapolis, IN
96,014 | The Bank of New York Mellon, Technology Strategy and Business Management, Pride Technologies, etc | New York, NY
96,014A | The Bank of New York Mellon, Technology Strategy and Business Management, Pride Technologies, etc | Oriskany, NY
96,017 | FXI, Inc., FXI Holdings, Inc., Adecco, Peoplelink | Corry, PA
96,049 | AK Coal Resources, Inc., AK Steel division, AK Steel Corporation | Friedens, PA
96,074 | Saulsbury Industries Inc | Henderson, TX
96,097 | Pacific Paper Products, Elite Staffing, Express Employment Professionals | Memphis, TN
96,102 | Sonic | Memphis, TN
96,103 | State Street Bank & Trust Co., Compliance AML division, State Street Corporation | Boston, MA
96,109 | KRA International, Business Unit 128, Patrick Industries | Mishawaka, IN
96,181 | Applied Engineering, Inc | Yankton, SD

Determinations Terminating Investigations of Petitions for Trade Adjustment Assistance

After notice of the petitions was published in the Federal Register and on the Department's website, as required by Section 221 of the Act (19 U.S.C. 2271), the Department initiated investigations of these petitions.

The following determinations terminating investigations were issued because the petitioner has requested that the petition be withdrawn.

TA-W No. | Subject firm | Location | Impact date
96,541 | Tobul Accumulators | Bamberg, SC
96,697 | ABB | Kings Mountain, NC

The following determinations terminating investigations were issued in cases where the petition regarding the investigation has been deemed invalid.

TA-W No. | Subject firm | Location | Impact date
95,782 | Ultra Clean Technology | Hayward, CA
96,125 | Indiana's Goodwill Ambassador, Inc | Muncie, IN
96,691 | Bed Bath and Beyond | Ocoee, FL

The following determinations terminating investigations were issued because the worker group on whose behalf the petition was filed is covered under an existing certification.

TA-W No. | Subject firm | Location | Impact date
95,718 | HCL America, Inc., Engineering, R&D Services, Digital Process Operations | Sunnyvale, CA
95,765 | HCL America, Inc., Engineering, R&D Services, Digital Process Operations | Appleton, WI
95,825 | Steelcase Inc | Grand Rapids, MI
95,867 | Siemens Government Technologies, Inc., Dresser Rand, Walker Services, IT Tech Connexion Systems, G4S-Buffalo, etc | Wellsville, NY
96,031 | Beyondsoft International, HP Inc., Imaging, Printing and Solutions Business Group | Boise, ID
96,686 | Ormco Corporation, Spark | Pomona, CA

I hereby certify that the aforementioned determinations were issued during the period of February 1, 2021 through February 28, 2021. These determinations are available on the Department's website https://www.doleta.gov/tradeact/petitioners/taa_search_form.cfm under the searchable listing determinations or by calling the Office of Trade Adjustment Assistance toll free at 888-365-6822.

Signed at Washington, DC, this 7th day of March 2021.
Hope D. Kinglock,
Certifying Officer, Office of Trade Adjustment Assistance.

[FR Doc. 2021-06034 Filed 3-23-21; 8:45 am]

BILLING CODE 4510-FN-P